NATIONAL AERONAUTICS AND SPACE ADMINISTRATION

[Notice (03-059)]

Government-Owned Inventions, Available for Licensing

ACTION: Notice of availability of inventions for licensing.

SUMMARY: The invention listed below is assigned to the National Aeronautics and Space Administration, has been filed in the United States Patent and Trademark Office, and is available for licensing.

DATES: June 3, 2003.

FOR FURTHER INFORMATION CONTACT: Diana Cox, Patent Counsel, Goddard Space Flight Center, Mail Code 503, Greenbelt, MD 20771; telephone (301) 286-7351; fax (301) 286-9502.

NASA Case No. GSC-14393-1: Light Weight Optical Mirrors Formed In Single Crystal Substrate.

Dated: May 28, 2003.
Robert M. Stephens,
Deputy General Counsel.

[FR Doc. 03-13910 Filed 6-2-03; 8:45 am]

BILLING CODE 7590-01-P